DEPARTMENT OF AGRICULTURE

Forest Service

Notice of Sanders County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo and Kootenai National Forests' Sanders County Resource Advisory Committee will meet on April 15 at 6:30 p.m., in Thompson Falls, Montana for a business meeting. The meeting is open to the public.

DATES: April 15, 2004.

ADDRESSES: The meeting will be held at the Thompson Falls Courthouse, 1111 Main Street, Thompson Falls, MT 59873.

FOR FURTHER INFORMATION CONTACT: Brian Avery, District Ranger, or Shana Neesvig, Committee Coordinator, Cabinet Ranger District, Kootenai National Forest at (406) 827-3533.

SUPPLEMENTARY INFORMATION: Agenda topics include reviewing project status and receiving public comment. If the meeting location is changed, notice will be posted in the local newspapers, including the Clark Fork Valley Press, Sanders County Ledger, Daily Interlake, Missoulian, and River Journal.

Dated: March 4, 2004.
Brian Avery,
Designated Federal Official, District Ranger, Cabinet Ranger District.

[FR Doc. 04-6313 Filed 3-19-04; 8:45 am]

BILLING CODE 3410-11-M